DEPARTMENT OF COMMERCE

International Trade Administration

A-533-808

Stainless Steel Wire Rod From India: Final Results of Antidumping Duty Administrative Review and Determination to Revoke Order in Part

AGENCY: Import Administration, International Trade Administration, Department of Commerce.

SUMMARY: On January 7, 2005, the Department of Commerce published the preliminary results of the administrative review of the antidumping duty order on stainless steel wire rod (SSWR) from India. The review covers three companies for the period December 1, 2002, through November 30, 2003. We gave interested parties an opportunity to comment on the preliminary results. Based on our analysis of the comments received, we have made changes, including correction of a clerical error, in the margin calculations. The final weighted-average margins are listed below in the “Final Results of Review” section of this notice.

EFFECTIVE DATE: July 13, 2005.

FOR FURTHER INFORMATION CONTACT: Kristin Case at (202) 482-3174 or Minoo Hatten at (202) 482-1690, AD/CVD Operations, Office 5, Import Administration, International Trade Administration, U.S. Department of Commerce, 14th Street and Constitution Avenue, NW, Washington, DC 20230.

SUPPLEMENTARY INFORMATION:

Background

On January 7, 2005, we published the preliminary results of review, extended the time limit for these final results, and invited parties to comment. Stainless Steel Wire Rods From India: Preliminary Results of Antidumping Duty Administrative Review, Intent To Revoke Order In Part, and Extension of Time Limit for the Final Results of Review, 70 FR 1413 (January 7, 2005) (Preliminary Results). We received case briefs from the petitioner,¹ Chandan Steel, Ltd. (Chandan), and Viraj Alloys, Ltd., and VSL Wires, Ltd. (collectively Viraj). We received rebuttal briefs from Chandan, Viraj, and Isibars.²

¹ The petitioner is Carpenter Technology Corp.

² Isibars is comprised of the following entities: Isibars Limited, Zenstar Impex, and Shaktiman Steel Casting Pvt. Ltd.

The Department determined that several case and rebuttal briefs contained new factual information. In a separate memorandum, the Department outlined its rationale for either accepting or rejecting such information. See Memorandum to Laurie Parkhill entitled Submissions of Untimely New Factual Information in the Administrative Review of the Antidumping Duty Order on Stainless Steel Wire Rod from India, dated June 8, 2005. The Department requested that parties redact the new information rejected by the Department and any references to the information in the submissions and resubmit the documents.

The Department of Commerce (the Department) has conducted this review in accordance with section 751(a) of the Tariff Act of 1930, as amended (the Act).

Scope of the Order

The products covered by this order are certain SSWRs, which are hot-rolled or hot-rolled annealed and/or pickled rounds, squares, octagons, hexagons or other shapes, in coils. SSWRs are made of alloy steels containing, by weight, 1.2 percent or less of carbon and 10.5 percent or more of chromium, with or without other elements. These products are only manufactured by hot-rolling, are normally sold in coiled form, and are of solid cross section. The majority of SSWRs sold in the United States are round in cross-section shape, annealed, and pickled. The most common size is 5.5 millimeters in diameter.

The products are currently classifiable under subheadings 7221.00.0005, 7221.00.0015, 7221.00.0030, 7221.00.0045, and 7221.00.0075 of the Harmonized Tariff Schedule of the United States (HTSUS). Although the HTSUS subheadings are provided for convenience and customs purposes, our written description of the scope of this proceeding remains dispositive.

Analysis of Comments Received

All issues raised in the parties' case and rebuttal briefs in the context of this administrative review are addressed in the “Issues and Decision Memorandum” from Barbara E. Tillman, Acting Deputy Assistant Secretary for Import Administration, to Joseph A. Spetrini, Acting Assistant Secretary for Import Administration, dated July 6, 2005 (Decision Memorandum), which is hereby adopted by this notice. Attached to this notice as an appendix is a list of the issues that the parties have raised and to which we have responded in the Decision Memorandum. Parties can find a complete discussion of all issues raised in this review and the corresponding recommendations in this public memorandum, which is on file in the Central Records Unit, Room B-099 of the main Department building. In addition, a complete version of the Decision Memorandum can be accessed directly on the Internet at http://ia.ita.doc.gov/frn. The paper copy and electronic version of the Decision Memorandum are identical in content.

Sales Below Cost in the Home Market

As discussed in detail in the preliminary results, the Department disregarded certain home-market sales that Viraj sold at prices below the cost of production. See Preliminary Results, 70 FR 1422. For these final results, the Department disregarded home-market sales made by Viraj and Isibars at below-cost prices.

Changes Since the Preliminary Results

Based on our analysis of the comments received, we have made changes to our calculations that have changed the results for certain companies. Further, although we used total adverse facts available to establish a dumping margin for Isibars in the Preliminary Results, we explained in that notice that we would allow Isibars an opportunity to correct certain deficiencies in its cost data for the final results. Subsequent to the Preliminary Results, we issued Isibars an additional cost-of-production supplemental questionnaire. Isibars corrected its prior deficiencies, and we conducted a cost verification. We calculated a dumping margin for Isibars and released those calculations to the parties for comment on May 13, 2005. See Post-Preliminary Draft Analysis Memorandum of Isibars Limited for Stainless Steel Wire Rod from India Adm. Rev. 12/1/02 - 11/30/03, dated May 13, 2005.

Revocation of Order in Part

On December 31, 2003, Viraj requested revocation of the antidumping duty order with respect to its sales of the subject merchandise, pursuant to 19 CFR 351.222(b). With its request for revocation, Viraj provided each of the certifications required under 19 CFR 351.222(e).

The Department may revoke, in whole or in part, an antidumping duty order upon completion of a review under section 751 of the Act. While Congress has not specified the procedures that the Department must follow in revoking an order, the Department has developed a procedure for revocation that is described in 19 CFR 351.222. This regulation requires that a company requesting revocation must submit the following: (1) a certification that the company has sold the subject merchandise at not less than normal value (NV) in the current review period and that the company will not sell subject merchandise at less than NV in the future; (2) a certification that the company sold commercial quantities of the subject merchandise to the United States in each of the three consecutive years forming the basis of the request; and (3) an agreement to immediate reinstatement of the order if the Department concludes that, subsequent to the revocation, the company sold subject merchandise at less than NV. See 19 CFR 351.222(e)(1). Upon receipt of such a request, the Department will consider the following: (1) whether the company in question has sold subject merchandise at not less than NV for a period of at least three consecutive years; (2) whether the company has agreed in writing to its immediate reinstatement in the order, as long as any exporter or producer is subject to the order, if the Department concludes that the company, subsequent to the revocation, sold the subject merchandise at less than NV; and (3) whether the continued application of the antidumping duty order is otherwise necessary to offset dumping. See 19 CFR 351.222(b)(2)(i).

In the Preliminary Results, we found that the request from Viraj met all of the criteria under 19 CFR 351.222. We continue to find that this is the case for Viraj. With regard to the criteria of subsection 19 CFR 351.222(b)(2), our final margin calculations show that Viraj sold SSWR at not less than NV during the current review period. In addition, Viraj sold SSWR at not less than NV in the two previous administrative reviews in which it was involved. See Stainless Steel Wire Rods From India: Final Results and Partial Rescission of Antidumping Duty Administrative Review, 69 FR 29923 (May 26, 2004) (covering the period from December 1, 2001, through November 30, 2002), and Stainless Steel Wire Rods From India: Notice of Amended Final Results and Partial Rescission of Antidumping Duty Administrative Review, 68 FR 38301 (June 27, 2003) (covering the period from December 1, 2000, through November 30, 2001).

Based on our examination of the sales data submitted by Viraj, we determine that it sold the subject merchandise in the United States in commercial quantities in each of the consecutive years cited by Viraj to support its request for revocation. Thus, we find that Viraj had zero or de minimis dumping margins for its last three administrative reviews and sold in commercial quantities in each of these years. Additionally, we find that the continued application of the antidumping duty order is not otherwise necessary to offset dumping. Therefore, we determine that Viraj qualifies for revocation of the order on SSWR pursuant to 19 CFR 351.222(b)(2) and that the order with respect to merchandise produced and exported by Viraj should be revoked. In accordance with 19 CFR 351.222(f)(3), we are terminating the suspension of liquidation for any of the merchandise in question that is entered, or withdrawn from warehouse, for consumption on or after December 1, 2003, and will instruct U.S. Customs and Border Protection (CBP) to refund any cash deposits for such entries.

Although the petitioner has requested that the Department not revoke the order with respect to Viraj pending the resolution of outstanding litigation, the evidence currently before the Department shows that Viraj has met each of the criteria set forth in 19 CFR 351.222. See the Decision Memorandum at comment 8 for further discussion of this issue.

Final Results of Review

As a result of our review, we determine that the following weighted-average percentage margins exist for the period December 1, 2002, through November 30, 2003:

Producer or Exporter | Margin
Chandan Steel, Ltd. | 2.10%
Isibars Limited, Zenstar Impex, and Shaktiman Steel Casting Pvt. Ltd. | 27.20%
The Viraj Group (Viraj Alloys, Ltd. and VSL Wires, Ltd.) | 0.00%

Assessment Rates

The Department will determine, and CBP shall assess, antidumping duties on all appropriate entries. In accordance with 19 CFR 351.212(b)(1), we have calculated importer- or customer-specific assessment rates or amounts, as appropriate, for merchandise subject to this review. We will issue appropriate assessment instructions directly to CBP within 15 days of publication of these final results of review.

Cash-Deposit Requirements

The following deposit requirements will be effective upon publication of these final results of administrative review for all shipments of SSWR from India entered, or withdrawn from warehouse, for consumption on or after the publication date of these final results, as provided by section 751(a)(2)(C) of the Act: (1) The cash-deposit rates for the reviewed companies will be the rates shown above; (2) for merchandise exported by other producers or exporters that were reviewed or investigated previously, the cash-deposit rate will continue to be the most recent rate published in the final determination or final results for which the producer or exporter received an individual rate; (3) if the exporter is not a firm covered in this review, a prior review, or the original less-than-fair-value (LTFV) investigation but the manufacturer is, the cash-deposit rate will be the rate established for the most recent period for the manufacturer of the subject merchandise; and (4) if neither the exporter nor the manufacturer is a firm covered in this or any previous review, the cash-deposit rate shall be 48.80 percent, the all-others rate established in the LTFV investigation. See Final Determination of Sales at Less Than Fair Value: Certain Stainless Steel Wire Rods from India, 58 FR 54110 (October 20, 1993). These deposit requirements shall remain in effect until the publication of the final results of the next administrative review.

Notification of Interested Parties

This notice serves as a final reminder to importers of their responsibility under 19 CFR 351.402(f) to file a certificate regarding the reimbursement of antidumping duties prior to liquidation of the relevant entries during the review period. Failure to comply with this requirement could result in the Secretary's presumption that reimbursement of antidumping duties occurred and the subsequent assessment of double antidumping duties.

This notice also serves as a reminder to parties subject to administrative protective orders (APO) of their responsibility concerning the disposition of proprietary information disclosed under APO as explained in the administrative protective order itself. Timely written notification of the return or destruction of APO materials or conversion to judicial protective order is hereby requested. Failure to comply with the regulations and terms of an APO is a sanctionable violation.

These final results of administrative review and notice are issued and published in accordance with sections 751(a)(1) and 777(i)(1) of the Act.

Dated: July 6, 2005.
Joseph A. Spetrini,
Acting Assistant Secretary for Import Administration.

APPENDIX - Issues in the Decision Memorandum

A. Issue with regard to Chandan

Comment 1: Constructed-Value Profit Rate

B. Issues with regard to Isibars

Comment 2: U.S. Movement Expenses

Comment 3: Unreconciled Cost Difference

C. Issues with regard to Viraj

Comment 4: Debt-Restructuring

Comment 5: Review of Tax Returns at Verification

Comment 6: Collapsing of VAL and VSL

Comment 7: Request for Additional Sales and Cost Data

Comment 8: Revocation

Comment 9: Credit Expenses

Comment 10: Indirect Selling Expenses Incurred in the Country of Manufacture

Comment 11: Direct Material Costs

Comment 12: Costs of Affiliated Power Company

Comment 13: VAL's Fixed Overhead Costs

Comment 14: Interest Expenses

Comment 15: G&A Expenses

Comment 16: Duty Drawback

Comment 17: Constructed-Value Profit Rate

Comment 18: Clerical Error in the CEP-Profit Calculation

[FR Doc. E5-3713 Filed 7-12-05; 8:45 am]

BILLING CODE 3510-DS-S